ENVIRONMENTAL PROTECTION AGENCY

[EPA-HQ-AO-2010-0739, FRL-9275-1]

Agency Information Collection Activities; Submission to OMB for Review and Approval; Comment Request; Regulatory Pilot Projects (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 4, 2011.

ADDRESSES: Submit your comments, referencing Docket ID No. EPA-HQ-AO-2010-0739 to (1) EPA online using www.regulations.gov (our preferred method), by email to oei.docket@epa.gov, or by mail to: EPA Docket Center, Environmental Protection Agency, OA Docket, EPA Docket Center, Environmental Protection Agency, Mail Code 28221T, 1200 Pennsylvania Avenue, NW., Washington, DC 20460, and (2) OMB by mail to: Office of Information and Regulatory Affairs, Office of Management and Budget (OMB), Attention: Desk Officer for EPA, 725 17th Street, NW., Washington, DC 20503.

FOR FURTHER INFORMATION CONTACT: Gerald Filbin, Office of Policy, (1807T), Environmental Protection Agency, 1200 Pennsylvania Ave., NW., Washington, DC 20460; telephone number: 202-566-2182; fax number: 202-566-2220; e-mail address: filbin.gerald@epa.gov.

SUPPLEMENTARY INFORMATION: EPA has submitted the following ICR to OMB for review and approval according to the procedures prescribed in 5 CFR 1320.12. On October 5, 2010 (75 FR 61484), EPA sought comments on this ICR pursuant to 5 CFR 1320.8(d). EPA received one comment during the comment period, which is addressed in the ICR. Any additional comments on this ICR should be submitted to EPA and OMB within 30 days of this notice.

EPA has established a public docket for this ICR under Docket ID No. EPA-HQ-AO-2010-0739, which is available for online viewing at http://www.regulations.gov, or in person viewing at the Office of the Administrator Docket in the EPA Docket Center (EPA/DC) in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Office of the Administrator Docket is 202-566-0219.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Regulatory Pilot Projects (Renewal).

ICR numbers: EPA ICR No. 1755.09, OMB Control No. 2010-0026.

ICR Status: This ICR is scheduled to expire on March 31, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This is an information collection request renewal that will allow for the continued solicitation of proposals for innovative pilot projects and to allow EPA to continue its commitments to monitor the results of ongoing pilot tests of regulatory innovation. The renewal of this ICR is important as it will allow the Agency to continue to measure performance outcomes of regulatory innovation piloting and to assess the broader applicability of those pilot projects. The ICR is also necessary to allow EPA to identify State and Tribal co-regulators as well as other stakeholders who are interested in partnering with EPA in innovative pilot projects, allowing the Agency to continue its commitment to innovation and regulatory flexibility with facilities, communities, and states in achieving environmental results. The renewal of this ICR will allow the Office of Policy to continue to work with potential stakeholders on innovative approaches to achieve improved environmental results.

Burden Statement: The annual public reporting and recordkeeping burden for this collection of information is estimated to average 5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Respondents/Affected Entities: States and regulated entities participating in EPA regulatory pilot projects.

Estimated Number of Respondents: 832.

Frequency of Response: Quarterly, annually, on occasion.

Estimated Total Annual Hour Burden: 4,680 hours.

Estimated Total Annual Cost: $258,694. This is exclusively for labor as there are no capital investment or maintenance and operational costs.

Changes in the Estimates: There is a decrease of 3,068 hours in the total estimated respondent burden compared with that identified in the ICR currently approved by OMB. This reflects the reduced number of Project XL and State Innovation Grant projects reporting as those programs come to a close.

Dated: February 25, 2011.
John Moses,
Director, Collection Strategies Division.

[FR Doc. 2011-4779 Filed 3-2-11; 8:45 am]

BILLING CODE 6560-50-P